DEPARTMENT OF ENERGY

Federal Energy Regulatory Commission

[Project No. 2237-017]

Georgia Power Company; Notice of Availability of Environmental Assessment

November 9, 2007.

In accordance with the National Environmental Policy Act of 1969 and the Federal Energy Regulatory Commission's (Commission) regulations, 18 CFR Part 380 (Order No. 486, 52 FR 47897), the Office of Energy Projects has reviewed the application for a New Major License for the Morgan Falls Hydroelectric Project.

The Morgan Falls Project is located in the metropolitan city of Atlanta area on the Chattahoochee River, at river mile 312.6, and about 36 miles downstream from the U.S. Army Corps of Engineers' Buford dam (Lake Sidney Lanier) in Cobb and Fulton Counties, Georgia. The project occupies about 14.4 acres of federal lands within the Chattahoochee River National Recreation Area managed by the National Park Service. Staff has prepared an Environmental Assessment (EA) for the project.

In the EA Commission, staff analyzed the potential environmental effects of relicensing the project and concludes that issuing a new license for the project, with appropriate environmental measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the date of this notice and should be addressed to: Kimberly D. Bose, Secretary, Federal Energy Regulatory Commission, 888 First Street, NE., Washington, DC 20426. Please affix Project No. 2237-017 to all comments. Comments may be filed electronically via the Internet in lieu of paper. The Commission strongly encourages electronic filings. See 18 CFR 385.2001(a)(1)(iii) and the instructions on the Commission's Web site (http://www.ferc.gov) under the “e-Filing” link. Project No. P-2237-017.

For further information, please contact Janet Hutzel at (202) 502-8675 or at janet.hutzel@ferc.gov.

Kimberly D. Bose,
Secretary.

[FR Doc. E7-22621 Filed 11-19-07; 8:45 am]

BILLING CODE 6717-01-P